DEPARTMENT OF LABOR

Employment and Training Administration

[TA-W-53,606]

Extreme Tool and Engineering, Wakefield, MI; Notice of Termination of Investigation

Pursuant to section 221 of the Trade Act of 1974, as amended, an investigation was initiated on November 21, 2003 in response to a worker petition filed by a company official on behalf of workers at Extreme Tool and Engineering, Wakefield, Michigan.

The petitioner has requested that the petition be withdrawn. Consequently, further investigation would serve no purpose, and the investigation has been terminated.

Signed at Washington, DC, this 16th day of December 2003
Linda G. Poole,
Certifying Officer, Division of Trade Adjustment Assistance.

[FR Doc. 04-643 Filed 1-12-04; 8:45 am]

BILLING CODE 4510-30-P